DEPARTMENT OF THE INTERIOR

Fish and Wildlife Service

Emergency Exemption: Issuance of Permit for Endangered Species

AGENCY: Fish and Wildlife Service, Interior.

ACTION: Notice of emergency issuance of permit for endangered species.

SUMMARY: The following permit was issued.

ADDRESSES: Documents and other information submitted for this application are available for review, subject to the requirements of the Privacy Act and Freedom of Information Act, by any party who submits a written request for a copy of such documents to: U.S. Fish and Wildlife Service, Division of Management Authority, 4401 North Fairfax Drive, Room 700, Arlington, Virginia 22203, telephone 703/358-2104 or fax 703/358-2281.

FOR FURTHER INFORMATION CONTACT: Division of Management Authority, telephone 703/358-2104.

SUPPLEMENTARY INFORMATION: On September 24, 2004, the U.S. Fish and Wildlife Service (Service) issued a permit (PRT-094219) to the Lincoln Park Zoological Park, Chicago, IL, to import tissue samples from a male chimpanzee (Pan troglodytes) which died in the wild in the Gombe Stream Reserve, Tanzania, for the purpose of scientific research to determine the cause of death and possible veterinary intervention required. This action was authorized under Section 10(c) of the Endangered Species Act of 1973, as amended (16 U.S.C. 1531, et seq.). The Service determined that an emergency affecting the health and life of the remaining chimpanzee population of the Gombe Stream Reserve existed, and that no reasonable alternative was available to the applicant for the following reasons.

The Lincoln Park Zoo requested a permit to import multiple tissue samples from a male chimpanzee which recently died in the Gombe Stream Reserve, Tanzania for emergency and ongoing health/disease evaluation purposes. Samples will be utilized exclusively for diagnostic and scientific purposes. The specimens will be used to run diagnostics tests to determine the cause of death of the animal that died. Additional animals appear to be affected with similar symptoms as the animal which died and the necessary diagnostic testing is not available in Africa to adequately and quickly diagnose the pathogen or pathogens involved. The determination of the cause of the illness and possible treatment as quickly as possible will benefit the chimpanzee population in the wild.

Dated: October 1, 2004.
Michael L. Carpenter,
Acting Chief, Branch of Permits—International Division of Management Authority.

[FR Doc. 04-23130 Filed 10-14-04; 8:45 am]

BILLING CODE 4310-55-P